DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of December 1, 2020 through December 31, 2020. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated; AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) The sales or production, or both, of such firm, have decreased absolutely; AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased; AND

(iii) the increase in imports described in clause (ii) contributed importantly to such workers' separation or threat of separation and to the decline in the sales or production of such firm; OR

(B) Shift in Production or Services to a Foreign Country Path OR Acquisition of Articles or Services From a Foreign Country Path

(i) (I) There has been a shift by such workers' firm to a foreign country in the production of articles or the supply of services like or directly competitive with articles which are produced or services which are supplied by such firm; OR

(II) such workers' firm has acquired from a foreign country articles or services that are like or directly competitive with articles which are produced or services which are supplied by such firm; AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated; AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4)); AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A)); AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register; AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
95,396 | TDY Industries, LLC, ATI Forged Products, Portland Operations, Allegheny Technologies | Portland, IN | November 20, 2018.
95,593 | Sakthi Automotive Group USA, Inc., Aerotek, Kelly Services, ICR Industrial Control Repair, AQL | Detroit, MI | January 22, 2019.
95,660 | Mount Vernon Mills, Inc., Alto, R.B. Pamplin, Express Staffing, Defender Staffing, Dycos, Flexicrew | Alto, GA | January 13, 2019.
95,660A | Mount Vernon Mills, Inc., Trion Mill division, Yarn Manufacturing, R.B. Pamplin Corporation | Trion, GA | January 13, 2019.
95,686 | Atlas Copco IAS LLC, Industrial Technique Business Area division, Atlas Copco North America, LLC | Auburn Hills, MI | February 12, 2019.
95,910 | U.S. Steel Tubular Products, Inc., Lone Star Tubular Operations, U.S. Steel Corporation | Lone Star, TX | May 4, 2019.
96,038 | ArcelorMittal USA Indiana Harbor, ArcelorMittal USA, Superior Engineering, ABM Industry Groups, etc | East Chicago, IN | July 7, 2019.
96,086 | Huntington Alloys Corporation, Special Metals Division, Kelly Services | Huntington, WV | July 23, 2019.
96,091 | Somerset Operating Company, LLC (SOC), Riesling Power LLC | Barker, NY | July 23, 2019.
96,544 | Phelps Dodge Industries, Inc | Elizabeth, NJ | October 8, 2019.
96,600 | Kinyo Virginia/DYC | Virginia Beach, VA | November 6, 2019.
96,614 | Vishay Dale Electronics, LLC | Yankton, SD | November 16, 2019.

The following certifications have been issued. The requirements of Section 222(a)(2)(B) (Shift in Production or Services to a Foreign Country Path or Acquisition of Articles or Services from a Foreign Country Path) of the Trade Act have been met.

TA-W No. | Subject firm | Location | Impact date
95,420 | Bed, Bath & Beyond, Inc., Corporate Headquarters, Financial Operations Group | Union, NJ | November 21, 2018.
95,592 | Prime Healthcare Services, Saint John Leavenworth, Saint John Hospital, etc | Leavenworth, KS | January 22, 2019.
95,697 | Quest Software Inc., Technical Development and Support Group, Quest Software US Holdings Inc | Reston, VA | February 14, 2019.
95,697A | Quest Software Inc., Technical Development and Support Group, Quest Software US Holdings Inc | Aliso Viejo, CA | February 14, 2019.
95,742 | DSV Air & Sea Inc., IT Support | Portland, OR | February 26, 2019.
95,752 | Manchester Tank & Equipment Company, Express Employment | Bedford, IN | February 28, 2019.
95,809 | FormFactor Beaverton, FormFactor, Inc., Finance Department | Beaverton, OR | March 11, 2019.
95,898 | Toppan Merrill, Capital Markets, Composition Services, Toppan Merrill USA Inc., etc | Saint Paul, MN | April 22, 2019.
95,976 | MEDNAX Services Inc., MEDNAX Inc., Revenue Cycle Management Division | Arlington, TX | June 9, 2019.
96,032 | IDL Techniedge LLC, Stanley Black & Decker | Kenilworth, NJ | July 1, 2019.
96,042 | Chick Master Incubator Company, International Hatchery Holdings Group, TBG, Integrity Staffing, Employtemps | Medina, OH | July 7, 2019.
96,044 | PCC Structurals, Inc., Precision Castparts Corporation, Aerotek Staffing and Recruiting, PQNDT | Redmond, OR | July 7, 2019.
96,077 | ASARCO, LLC, Hayden Smelter and Concentrator, Staff Matters LLC, Technical Professionals | Hayden, AZ | July 22, 2019.
96,106 | Veritas Technologies LLC, Backup Exec Organization, Global Support & Services Organization, EV.cloud | Lake Mary, FL | July 27, 2019.
96,108 | Cargill Cocoa & Chocolate, Inc., Cargill, Inc., HireGenics | Hazleton, PA | July 28, 2019.
96,112 | Columbus Mckinnon Corporation, Office Team | Lisbon, OH | July 29, 2019.
96,112A | Columbus Mckinnon Corporation, Luttrell Staffing Group | Damascus, VA | July 29, 2019.
96,123 | SECO/WARWICK Corporation, SECO/WARWICK SA | Meadville, PA | August 4, 2019.
96,136 | Cooper-Standard Automotive, Kelly Services | Surgoinsville, TN | August 12, 2019.
96,144 | Signify North America Corporation, Ranstad Staffing | Salina, KS | August 17, 2019.
96,166 | US Tool Grinding, Inc., TalentForce | Farmington, MO | August 28, 2019.
96,176 | Safran Cabin Sterling, Inc., Adecco Employment Services, Augmentation, Inc | Sterling, VA | September 2, 2019.
96,300 | Collins Aerospace | Windsor Locks, CT | September 21, 2020.
96,305 | Foveon, Inc., Sigma Corporation of America, Research and Development Department | San Jose, CA | September 23, 2019.
96,311 | ShopVac Corporation | Williamsport, PA | September 24, 2019.
96,401 | Eaton, Bussmann division | Ellisville, MO | September 25, 2019.
96,501 | Joe Benbasset Inc. | New York, NY | September 23, 2019.
96,508 | Nokia of America Corporation | Murray Hill, NJ | September 25, 2020.
96,523 | Philips North America LLC, Quality and Regulatory | Nashville, TN | October 5, 2019.
96,560 | Pall Corporation | Lutherville Timonium, MD | October 15, 2019.
96,570 | Tenet Hospitals Limited, dba THOP Shared Services Facility, Finance & Accounting, Accounts Payable, and Procurement departments, an indirect wholly-owned subsidiary of Tenet H | El Paso, TX | October 22, 2019.
96,570A | Tenet Hospitals Limited, dba THOP Memorial Campus, Finance & Accounting, Accounts Payable, and Procurement departments, an indirect wholly-owned subsidiary of Tenet Healthcare | El Paso, TX | October 22, 2019.
96,570B | Tenet Hospitals Limited, dba THOP Sierra Campus, Finance & Accounting, Accounts Payable, and Procurement departments, an indirect wholly-owned subsidiary of Tenet Healthcare | El Paso, TX | October 22, 2019.
96,570C | Tenet Hospitals Limited, dba THOP Transmountain Campus, Finance & Accounting, Accounts Payable, and Procurement departments, an indirect wholly-owned subsidiary of Tenet Health | El Paso, TX | October 22, 2019.
96,570D | Tenet Hospitals Limited, dba THOP East Campus, Finance & Accounting, Accounts Payable, and Procurement departments, an indirect wholly-owned subsidiary of Tenet Healthcare Corporation | El Paso, TX | October 22, 2019.
96,576 | IAC Greencastle LLC, a wholly owned subsidiary of International Automotive Components Group North America Inc | Greencastle, IN | October 27, 2019.
96,584 | Hunter Douglas Fabrication Company, Cumberland division | Cumberland, MD | October 30, 2019.
96,591 | ABB, Inc, Industrial Connections and Solutions, LLC | Morristown, TN | November 4, 2019.
96,592 | The Hall China Company | East Liverpool, OH | November 5, 2019.
96,608 | Methode Electronics, North American Automotive division | Carthage, IL | November 10, 2019.
96,613 | VHS San Antonio Partners, LLC dba Baptist Health Systems, Procurement Department, an indirect wholly-owned subsidiary of Tenet Healthcare Corporation | San Antonio, TX | November 16, 2019.
96,617 | Hikari USA Inc | Orangeburg, SC | November 17, 2019.
96,620 | McKesson Corporation, Corporate Finance | Irving, TX | November 19, 2019.
96,623 | BuzziSpace Inc | High Point, NC | November 20, 2019.
96,628 | Acuity Brands Lighting Inc. | Fishers, IN | November 25, 2019.
96,629 | Buhler Versatile USA, Inc | Willmar, MN | November 25, 2019.
96,631 | Aisin World Corp of America | Northville, MI | November 30, 2019.
96,632 | JTEKT North America Corporation, JTEKT Automotive Texas, L.P | Ennis, TX | December 2, 2019.
96,634 | Novares US Engine Components, Inc., Richland Center Plant | Richland Center, WI | December 3, 2019.
96,637 | Ferro Corporation | Washington, PA | February 21, 2021.
96,640 | Acuity Brands Lighting, IPF (Indiana Production Facility) | Crawfordsville, IN | December 4, 2019.

The following certifications have been issued. The requirements of Section 222(b) (supplier to a firm whose workers are certified eligible to apply for TAA) of the Trade Act have been met.

TA-W No. | Subject firm | Location | Impact date
95,909 | Harsco Environmental, Koppel Plant | Koppel, PA | May 4, 2019.
96,124 | Astronics-Peco | Clackamas, OR | August 5, 2019.
96,180 | MAX Aerostructures, LLC | Wichita, KS | September 3, 2019.
96,189 | LMI Aerospace, Inc., Sonaca, 411 Fountain Lakes | St. Charles, MO | September 14, 2019.
96,189A | LMI Aerospace, Inc., d/b/a Leonard's Metal, Inc., Sonaca, 3030 Highway 94 | St. Charles, MO | September 14, 2019.

The following certifications have been issued. The requirements of Section 222(e) (firms identified by the International Trade Commission) of the Trade Act have been met.

TA-W No. | Subject firm | Location | Impact date
96,304 | Arcosa Wind Towers, Inc., Arcosa Inc | Clinton, IL | August 25, 2019.
96,543 | Kimball Hospitality, Inc., Kimball Hospitality-Jasper | Jasper, IN | April 17, 2019.
96,559 | Marmen Energy Co | Brandon, SD | August 25, 2019.
96,594 | Pactiv LLC | Franklin Park, IL | September 10, 2019.
96,595 | Pactiv LLC | Bridgeview, IL | September 10, 2019.
96,597 | Pactiv LLC | Bedford Park, IL | September 10, 2019.
96,599 | Klockner Pentaplast of America Inc | Beaver, WV | September 10, 2019.
96,601 | Ex-Tech Plastics, Inc | Richmond, IL | September 10, 2019.
96,603 | D & W Fine Pack, LLC | Elk Grove Village, IL | September 10, 2019.
96,606 | Broadwind Heavy Fabrications, ABI division Broadwind Energy | Abilene, TX | August 25, 2019.
96,607 | Pactiv Packaging Inc | Mineral Wells, WV | September 10, 2019.

Negative Determinations for Worker Adjustment Assistance

In the following cases, the investigation revealed that the eligibility criteria for TAA have not been met for the reasons specified.

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,516 | Cameron Manufacturing & Design, Express Employment, Innovation Professional Placement | Horseheads, NY

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,033 | Shelton Turnbull Printers | Eugene, OR
95,278 | Transim Technology Corporation, Arrow Electronics, Inc | Portland, OR
95,601 | Timken SMO LLC, Timken, Penmac Staffing | Fort Scott, KS
95,671 | Event Solutions International Inc., Motus One | Troy, MI
95,672 | VersaLogic Corp., Protingent, Boly Welch, AZAD | Tualatin, OR
95,828 | Petrosmith | Abilene, TX
95,857 | WTX Oilfield Services, LLC | San Angelo, TX
95,872 | Noah Horn Well Drilling Inc | Vansant, VA
95,985 | Liberty Oilfield Services, Liberty Oilfield Services, LLC | Henderson, CO
96,037 | Rolls-Royce Crosspointe LLC, Broadspire | Prince George, VA
96,067 | Bed Bath & Beyond, Inc., Store #244 | Providence, RI
96,157 | Ultra-Premium Services, LLC, Maverick Tube Corporation, Tenaris S.A, Adecco Employment Service Dept | Brookfield, OH
96,615 | Alpha Surgical Inc | North Providence, RI | November 16, 2019.
96,626 | Davol Inc., Business Headquarters | Warwick, RI | November 23, 2019.

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
96,616 | Vanguard Home Medical Equipment | Warwick, RI | November 16, 2019.
96,625 | Bettering Builders | Soddy Daisy, TN | November 23, 2019.

The following determinations terminating investigations were issued because the worker group on whose behalf the petition was filed is covered under an existing certification.

TA-W No. | Subject firm | Location | Impact date
96,057 | 22nd Century Technologies and Noble Tek, The Boeing Company, Boeing Commercial Aircraft (BCA) | Saint Louis, MO

The following determinations terminating investigations were issued because the petitioning group of workers is covered by an earlier petition that is the subject of an ongoing investigation for which a determination has not yet been issued.

TA-W No. | Subject firm | Location | Impact date
96,551 | Foveon Incorporated | San Jose, CA | October 9, 2019.
96,561 | Eaton | Ellisville, MO | October 16, 2019.
96,630 | ASCO Power Technologies | Independence, OH | November 30, 2019.
96,655 | United States Steel Corporation | Ecorse, MI | December 23, 2019.

I hereby certify that the aforementioned determinations were issued during the period of December 1, 2020 through December 31, 2020. These determinations are available on the Department's website https://www.doleta.gov/tradeact/petitioners/taa_search_form.cfm under the searchable listing determinations or by calling the Office of Trade Adjustment Assistance toll free at 888-365-6822.

Signed at Washington, DC, this 11th day of January 2021.
Hope D. Kinglock,
Certifying Officer, Office of Trade Adjustment Assistance.

[FR Doc. 2021-01933 Filed 1-28-21; 8:45 am]

BILLING CODE 4510-FN-P